ENVIRONMENTAL PROTECTION AGENCY

40 CFR Part 52

[EPA-R09-OAR-2020-0573; FRL-10023-94-Region 9]

Air Plan Approval; California; Mojave Desert Air Quality Management District, Placer County Air Pollution Control District, South Coast Air Quality Management District

AGENCY: Environmental Protection Agency (EPA).

ACTION: Proposed rule.

SUMMARY: The Environmental Protection Agency (EPA) is proposing to approve revisions to the Mojave Desert Air Quality Management District (MDAQMD), Placer County Air Pollution Control District (PCAPCD) and the South Coast Air Quality Management District (SCAQMD) portion of the California State Implementation Plan (SIP). These revisions concern emissions of: Volatile organic compounds (VOCs) and particulate matter (PM) from metal coating operations. We are proposing to approve local rules and rescissions to regulate these emission sources under the Clean Air Act (CAA or the Act). We are taking comments on this proposal and plan to follow with a final action.

DATES: Comments must be received on or before June 21, 2021.

ADDRESSES: Submit your comments, identified by Docket ID No. EPA-R09-OAR-2020-0573 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with disabilities who needs a reasonable accommodation at no cost to you, please contact the person identified in the FOR FURTHER INFORMATION CONTACT section.

FOR FURTHER INFORMATION CONTACT: Arnold Lazarus, EPA Region IX, 75 Hawthorne St., San Francisco, CA 94105. By phone: (415) 972-3024 or by email at lazarus.arnold@epa.gov.

SUPPLEMENTARY INFORMATION: Throughout this document, “we,” “us” and “our” refer to the EPA.

Table of Contents

I. The State's Submittal

A. What rules and rescissions did the State submit?

B. Are there other versions of these rules?

C. What is the purpose of the submitted rule revision and rule rescissions?

II. The EPA's Evaluation and Action

A. How is the EPA evaluating the rules and rescissions?

B. Do the rules and rescissions meet the evaluation criteria?

C. The EPA's Recommendation to Further Improve the Rules

D. Public Comment and Proposed Action

III. Incorporation by Reference

IV. Statutory and Executive Order Reviews

I. The State's Submittal

A. What rules and rule rescissions did the State submit?

Table 1 lists the rules addressed by this proposal with the dates that they were adopted by the local air agencies and submitted by the California Air Resources Board (CARB).

Table 1—Submitted Rules
Local agency | Rule No. | Rule title | Amended | Submitted
MDAQMD | 1115 | Metal Parts & Products Coating Operations | June 8, 2020 | July 24, 2020.
PCAPCD | 102 | Definitions | June 11, 2020 | July 24, 2020.
SCAQMD | 1107 | Coating of Metal Parts & Products | February 7, 2020 | July 24, 2020

In addition to replacing the previous versions of the submitted rules listed in Table 1, the EPA is proposing to rescind SCAQMD Rule 1107 as it applies to the Riverside County portion of the MDAQMD, as requested by CARB.¹

¹ CARB's rescission request cites to four Code of Federal Regulations (CFR) provisions for SCAQMD Rule 1107; however, since three of the CFR provisions are previous versions of the Rule that were replaced by more recent versions, and are therefore no longer in the SIP, EPA is interpreting this as a request to remove the latest (and only) version of SCAQMD Rule 1107 applicable in the Riverside County portion of the MDAQMD—namely the version submitted on May 13, 1993, and listed at 40 CFR 52.220(c)(193)(i)(A)(1).

On November 24, 2020 the EPA determined that the submittal for MDAQMD Rule 1115, PCAPCD Rule 102, and SCAQMD Rule 1107 met the completeness criteria in 40 CFR part 51 Appendix V, which must be met before formal EPA review.

B. Are there other versions of these rules?

We approved an earlier version of MDAQMD Rule 1115 into the SIP on February 27, 2020 (85 FR 11812); we approved an earlier version of PCAPCD Rule 102 into the SIP on January 31, 2013 (78 FR 6736); and we approved an earlier version of SCAQMD Rule 1107 into the SIP on November 24, 2008 (73 FR 70883).

C. What is the purpose of the submitted rule revisions and rule rescissions?

Emissions of VOCs contribute to the production of ground-level ozone, smog and PM, which harm human health and the environment. Section 110(a) of the CAA requires states to submit regulations that control VOC emissions. PCAPCD Rule 102 is a definition rule that provides clarity for rules in the District. MDAQMD Rule 1115 and SCAQMD Rule 1107 control VOCs emitted from coating operations associated with metal parts and products. Rules 1107 and 1115 were revised to address the reasonably available control technology (RACT) requirement. The EPA's technical support documents (TSDs) have more information about these rules.

The rescissions remove the replaced versions of the submitted rules, and also remove the obsolete requirements found in an older version of SCAQMD Rule 1107 within MDAQMD's boundaries.²

² When the Palo Verde portion of Riverside County left the SCAQMD and became part of the MDAQMD, it kept the SCAQMD rules in place. The MDAQMD now has an updated district-wide rule coving the same source category as SCAQMD Rule 1107, namely MDAQMD Rule 1115. Accordingly, MDAQMD has requested to remove the vestigial SCAQMD rule in an effort to simplify and clarify the SIP for this region.

II. The EPA's Evaluation and Action`

A. How is the EPA evaluating the rules and rescissions?

Rules in the SIP must be enforceable (see CAA section 110(a)(2)), must not interfere with applicable requirements concerning attainment and reasonable further progress or other CAA requirements (see CAA section 110(l)), and must not modify certain SIP control requirements in nonattainment areas without ensuring equivalent or greater emissions reductions (see CAA section 193).

Generally, SIP rules must require RACT for each category of sources covered by a Control Techniques Guidelines (CTG) document as well as each major source of VOCs in ozone nonattainment areas classified as moderate or above (see CAA section 182(b)(2)).

The MDAQMD regulates an ozone nonattainment area classified as Severe for the 1997, 2008 and 2015 8-hour ozone national ambient air quality standard (NAAQS) (40 CFR 81.305). Therefore, these rules must implement RACT. The SCAQMD regulates an ozone nonattainment area classified as Extreme for the 1997, 2008 and 2015 8-hour ozone NAAQS (40 CFR 81.305). Therefore, these rules must implement RACT. The PCAPCD regulates an ozone nonattainment area classified as Severe for the 1997 and 2008 8-hour ozone NAAQS and Moderate for the 2015 8-hour ozone NAAQS (40 CFR 81.305). The PCAPCD must implement RACT for rules that are covered by a CTG document as well as each major source of VOCs in ozone nonattainment areas classified as moderate or above (see CAA section 182(b)(2)), however definitions rules are administrative and RACT does not apply.

Guidance and policy documents that we used to evaluate enforceability, revision/relaxation and rule stringency requirements for the applicable criteria pollutants include the following:

1. “State Implementation Plans; General Preamble for the Implementation of Title I of the Clean Air Act Amendments of 1990,” 57 FR 13498 (April 16, 1992); 57 FR 18070 (April 28, 1992).

2. “Issues Relating to VOC Regulation Cutpoints, Deficiencies, and Deviations,” EPA, May 25, 1988 (the Bluebook, revised January 11, 1990).

3. “Guidance Document for Correcting Common VOC & Other Rule Deficiencies,” EPA Region 9, August 21, 2001 (the Little Bluebook).

4. “Control of Volatile Organic Emissions from Existing Stationary Sources -Volume VI: Surface Coating of Miscellaneous Metal Parts and Products” (EPA-450/2-78-15, June 1978).

5. “Control Techniques Guidelines for Miscellaneous Metal and Plastic Parts Coatings” (EPA-453/R-08-003, September 2008).

B. Do the rules and rescissions meet the evaluation criteria?

These rules meet CAA requirements and are consistent with relevant guidance regarding enforceability, and SIP revisions. The TSDs have more information on our evaluation.

C. The EPA's Recommendation to Further Improve the Rules

The MDAQMD Rule 1115 TSD includes a recommendation for the next time the MDAQMD modifies the rule.

D. Public Comment and Proposed Action

As authorized in section 110(k)(3) of the Act, the EPA proposes to fully approve the submitted rules because they fulfill all relevant requirements. The EPA also proposes to rescind the current SIP-approved versions of the submitted rules, and the version of SCAQMD Rule 1107 that is currently in the SIP for the Riverside County portion of the MDAQMD, because these rules will be replaced by the updated rules we are proposing to approve. We will accept comments from the public on this proposal until June 21, 2021. If we take final action to approve the submitted rules, our final action will incorporate these rules into the federally enforceable SIP.

III. Incorporation by Reference

In this rule, the EPA is proposing to include in a final EPA rule regulatory text that includes incorporation by reference. In accordance with requirements of 1 CFR 51.5, the EPA is proposing to incorporate by reference the MDAQMD the PCAPCD and the SCAQMD rules described in Table 1 of this preamble. The EPA has made, and will continue to make, these materials available through https://www.regulations.gov and at the EPA Region IX Office (please contact the person identified in the FOR FURTHER INFORMATION CONTACT section of this preamble for more information).

IV. Statutory and Executive Order Reviews

Under the Clean Air Act, the Administrator is required to approve a SIP submission that complies with the provisions of the Act and applicable federal regulations. 42 U.S.C. 7410(k); 40 CFR 52.02(a). Thus, in reviewing SIP submissions, the EPA's role is to approve state choices, provided that they meet the criteria of the Clean Air Act. Accordingly, this proposed action merely proposes to approve state law as meeting federal requirements and does not impose additional requirements beyond those imposed by state law. For that reason, this proposed action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Public Law 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address disproportionate human health or environmental effects with practical, appropriate, and legally permissible methods under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Ozone, Reporting and recordkeeping requirements, Volatile organic compounds.

Authority: 42 U.S.C. 7401 et seq.

Dated: May 14, 2021.
Deborah Jordan,
Acting Regional Administrator, Region IX.

[FR Doc. 2021-10613 Filed 5-19-21; 8:45 am]

BILLING CODE 6560-50-P